DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 6, 2000.

Interested persons are invited to submit written comments regarding the subject matter of the investigations to the Director, Division of Trade Adjustment Assistance, at the address shown below, not later than April 6, 2000.

The petitions filed in this case are available for inspection at the Office of the Director, Division of Trade Adjustment Assistance, Employment and Training Administration, U.S. Department of Labor, 200 Constitution Avenue, NW, Washington, DC 20210.

Signed at Washington, DC, this 22nd day of February, 2000.
Grant D. Beale,
Program Manager, Division of Trade Adjustment Assistance.

Appendix.—Petitions Instituted on 02/22/2000
TA-W | Subject firm (petitioners) | Location | Date of petition | Product(s)
37,357 | Alliant Tech Systems (Wrks) | Totowa, NJ | 02/01/2000 | Tank Ammunition for US Military.
37,358 | Epson Portland, Inc (Wrks) | Hillsboro, OR | 02/11/2000 | Printers.
37,359 | General Electric Co (IUE) | Warwick, RI | 02/08/2000 | Programable Lighting.
37,360 | Geo Drilling Fluids (Wrks) | Bakersfield, CA | 01/13/2000 | Drilling Fluids.
37,361 | Motch Corp./MGS, Inc (IAM/Co) | Cleveland, OH | 02/09/2000 | Vertical Chuckers & Inverted Self Loader.
37,362 | Jasper Sportswear Corp (Comp) | Brooklyn, NY | 02/01/2000 | Ladies' Knitted Outerwear.
37,363 | George Bassi Distributing (IBT) | Watsonville, CA | 02/07/2000 | Wooden Pallets.
37,364 | Robinson Manufacturing (Wrks) | Madisonville, TN | 02/02/2000 | Shorts and Shirts.
37,365 | Borg-Warner Automative (Wrks) | Blytheville, AR | 01/25/2000 | Transmission Solenoids.
37,366 | California Shirt Sales (Comp) | Fullerton, CA | 01/26/2000 | Fleece Pants, Crewneck Shirts.
37,367 | KeyBank USA NA (Wrks) | Albany, NY | 02/01/2000 | Collect Auto Loans.
37,368 | ITT Jabsco (IBT) | Springfield, OH | 01/03/2000 | Recreational & Marine Products.
37,369 | Ikeda Interior Systems (Wrks) | Sidney, OH | 02/03/2000 | Seats for Nissan.
37,370 | Lees Curtain (Wrks) | Mansfield, MO | 02/01/2000 | Curtains for Windows.
37,371 | Burlington Industries (Wrks) | Belmont, NC | 01/07/2000 | Fabrics.
37,372 | Deer Valley Apparel, Inc (Wrks) | Chilhowie, VA | 01/28/2000 | Knitted Apparel.
37,373 | Sawdust Pencil Co (Comp) | Edison, NJ | 02/14/2000 | Pencils and Markers.
37,374 | T and K Manufacturing (Comp) | Brownstown, PA | 02/07/2000 | Underwear and Outerwear—Men, Women.
37,375 | Mitec Wireless, Inc (Comp) | Tinton Falls, NJ | 01/21/2000 | Micro Basestations, Radio Frequency Amp.
37,376 | Oneida Limited (Wrks) | Sherrill, NY | 02/04/2000 | Oneida Flatware.
37,377 | Duro Finishing (UNITE) | Fall River, MA | 02/09/2000 | Dye and Finishing Cloth.
37,378 | Bugbee and Niles Co., Inc (Comp) | Providence, RI | 02/10/2000 | Costume Jewelry.
37,379 | Emerson Electric Co (Wrks) | Rogers, AR | 02/03/2000 | Electric Motors.
37,380 | American Sewn Products (Wrks) | Bremerton, WA | 02/08/2000 | Customize Bags.
37,381 | U.S. Leather (IBT) | Milwaukee, WI | 02/04/2000 | Process Leather.
37,382 | Alaska Petroleum (Wrks) | Kenai, AK | 11/12/1999 | Oil and Gas Equipment.

[FR Doc. 00-7476 Filed 3-24-00; 8:45 am]

BILLING CODE 4510-30-M